OVERSEAS PRIVATE INVESTMENT CORPORATION

April 19, 2007 Public Hearing

OPIC's Sunshine Act notice of its Public Hearing in Conjunction with each Board meeting was published in the Federal Register (Volume 72, Number 59, Page 14627) on March 29, 2007. No requests were received to provide testimony or submit written statements for the record; therefore, OPIC's public hearing scheduled for 2 PM, April 19, 2007 in conjunction with OPIC's April 26, 2007 Board of Directors meeting has been cancelled.

Contact Person For Information: Information on the hearing cancellation may be obtained from Connie M. Downs at (202) 336-8438, via facsimile at (202) 218-0136, or via e-mail at cdown@opic.gov.

Dated: April 16, 2007.
Connie M. Downs,
OPIC Corporate Secretary.

[FR Doc. 07-1945 Filed 4-16-07; 1:53 pm]

BILLING CODE 3210-01-M